DEPARTMENT OF ENERGY

Federal Energy Regulatory Commission

Combined Notice of Filings #1

Take notice that the Commission received the following electric corporate filings:

Docket Numbers: EC22-44-000.

Applicants: Panorama Wind, LLC.

Description: Application for Authorization Under Section 203 of the Federal Power Act of Panorama Wind, LLC.

Filed Date: 2/23/22.

Accession Number: 20220223-5164.

Comment Date: 5 p.m. ET 3/16/22.

Take notice that the Commission received the following exempt wholesale generator filings:

Docket Numbers: EG22-58-000; EG04-61-000.

Applicants: Victoria WLE, LP, Victoria WLE, LP.

Description: Notice of Self-Recertification of Exempt Wholesale Generator Status of Victoria WLE, LP.

Filed Date: 2/24/22.

Accession Number: 20220224-5092.

Comment Date: 5 p.m. ET 3/17/22.

Docket Numbers: EG22-59-000.

Applicants: Brookfield White Pine Hydro LLC.

Description: Notice of Self-Recertification of Exempt Wholesale Generator Status of Brookfield White Pine Hydro LLC.

Filed Date: 2/24/22.

Accession Number: 20220224-5093.

Comment Date: 5 p.m. ET 3/17/22.

Take notice that the Comission received the following electric rate filings:

Docket Numbers: ER10-1631-018; ER10-1854-018; ER10-1859-011; ER10-1892-021; ER10-2678-019; ER10-2729-013; ER10-2739-034; ER10-2744-019; ER11-3320-018; ER11-3321-012; ER12-995-009; ER13-2316-016; ER14-19-017; ER14-1219-013; ER14-2548-010; ER16-1652-021; ER16-1732-012; ER16-1924-007; ER16-1925-007; ER16-1926-007; ER16-2405-012; ER16-2406-013; ER17-989-011; ER17-990-011; ER17-992-011; ER17-993-011; ER17-1494-005; ER17-1946-011; ER17-1947-006; ER17-1948-006; ER18-95-008; ER19-170-005; ER20-660-008; ER20-1440-004; ER21-1133-001; ER21-1505-003.

Applicants: Diablo Energy Storage, LLC, Hummel Station, LLC, Yards Creek Energy, LLC, Bolt Energy Marketing, LLC, Gateway Energy Storage, LLC, Buchanan Energy Services Company, LLC, Helix Ravenswood, LLC, Helix Maine Wind Develop.m.ent, LLC, Helix Ironwood, LLC, Vista Energy Storage, LLC, Bath County Energy, LLC, Springdale Energy, LLC, Gans Energy, LLC, Chambersburg Energy, LLC, Rockford Power, LLC, Rockford Power II, LLC, San Isabel Solar LLC, Pavant Solar II LLC, Bison Solar LLC, Aurora Generation, LLC, LifeEnergy LLC, Ocean State Power, Armstrong Power, LLC, West Deptford Energy, LLC, Seneca Generation, LLC, Cherokee County Cogeneration Partners, LLC, Wallingford Energy LLC, LSP University Park, LLC, Riverside Generating Company, L.L.C., LS Power Marketing, LLC, Buchanan Generation, LLC, Troy Energy, LLC, Columbia Energy LLC, Santa Rosa Energy Center, LLC, Doswell Limited Partnership, University Park Energy, LLC.

Description: Notice of Change in Status of LS MBR Sellers, et al.

Filed Date: 2/23/22.

Accession Number: 20220223-5167.

Comment Date: 5 p.m. ET 3/16/22.

Docket Numbers: ER21-927-000.

Applicants: Cleveland-Cliffs Steel LLC.

Description: Refund Report: Refund report to 10004 to be effective N/A.

Filed Date: 2/24/22.

Accession Number: 20220224-5098.

Comment Date: 5 p.m. ET 3/17/22.

Docket Numbers: ER21-1650-002.

Applicants: ISO New England Inc., NSTAR Electric Company.

Description: Compliance filing: NSTAR Electric Company submits tariff filing per 35: NSTAR Electric Company; Docket No. ER21-165-to be effective 1/27/2020.

Filed Date: 2/24/22.

Accession Number: 20220224-5068.

Comment Date: 5 p.m. ET 3/17/22.

Docket Numbers: ER22-431-000.

Applicants: Pacific Gas and Electric Company.

Description: Refund Report: CCSF Sunol Refund Compliance Filing (SA 275) to be effective N/A.

Filed Date: 2/24/22.

Accession Number: 20220224-5000.

Comment Date: 5 p.m. ET 3/17/22.

Docket Numbers: ER22-1104-000.

Applicants: PJM Interconnection, L.L.C.

Description: § 205(d) Rate Filing: Original WMPA, Service Agreement No. 6368; Queue No. AF2-249 to be effective 1/26/2022.

Filed Date: 2/24/22.

Accession Number: 20220224-5022.

Comment Date: 5 p.m. ET 3/17/22.

Docket Numbers: ER22-1105-000.

Applicants: Arizona Public Service Company, Public Service Company of Colorado, Tucson Electric Power Company, UNS Electric, Inc., Black Hills Power, Inc., Black Hills Colorado Electric, LLC, Cheyenne Light Fuel and Power Company, El Paso Electric Company, Public Service Company of New Mexico.

Description: Petition for Approval of Settlement Agreement of WestConnect Public Utilities.

Filed Date: 2/16/22.

Accession Number: 20220216-5231.

Comment Date: 5 p.m. ET 3/9/22.

Docket Numbers: ER22-1106-000.

Applicants: Crossing Trails Wind Power Project LLC.

Description: Baseline eTariff Filing: Reactive Power Compensation Filing to be effective 2/25/2022.

Filed Date: 2/24/22.

Accession Number: 20220224-5032.

Comment Date: 5 p.m. ET 3/17/22.

Docket Numbers: ER22-1107-000.

Applicants: PJM Interconnection, L.L.C.

Description: § 205(d) Rate Filing: Original WMPA SA No. 6367; Queue No. AF2-250 to be effective 1/26/2022.

Filed Date: 2/24/22.

Accession Number: 20220224-5069.

Comment Date: 5 p.m. ET 3/17/22.

Docket Numbers: ER22-1108-000.

Applicants: Southwest Power Pool, Inc.

Description: § 205(d) Rate Filing: 3914 Mother Road Solar Energy Surplus Interconnection GIA to be effective 4/26/2022.

Filed Date: 2/24/22.

Accession Number: 20220224-5091.

Comment Date: 5 p.m. ET 3/17/22.

Docket Numbers: ER22-1109-000.

Applicants: Niagara Mohawk Power Corporation, New York Independent System Operator, Inc.

Description: § 205(d) Rate Filing: Niagara Mohawk Power Corporation submits tariff filing per 35.13(a)(2)(iii: Joint 205 SGIA among NMPC, NYISO, Bald Mountain for NY 13 Solar SA2681 to be effective 2/10/2022.

Filed Date: 2/24/22.

Accession Number: 20220224-5107.

Comment Date: 5 p.m. ET 3/17/22.

Docket Numbers: ER22-1110-000.

Applicants: PJM Interconnection, L.L.C.

Description: § 205(d) Rate Filing: Original NSA, Service Agreement 6366; Queue No. AE2-042 to be effective 1/24/2022.

Filed Date: 2/24/22.

Accession Number: 20220224-5133.

Comment Date: 5 p.m. ET 3/17/22.

Take notice that the Commission received the following electric reliability filings:

Docket Numbers: RR22-1-000.

Applicants: North American Electric Reliability Corporation.

Description: Joint Petition of North American Electric Reliability Corporation and ReliabilityFirst Corporation for Approval of Amendments to ReliabilityFirst Corporation Bylaws.

Filed Date: 2/18/22.

Accession Number: 20220218-5263.

Comment Date: 5 p.m. ET 3/11/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: February 24, 2022.
Debbie-Anne A. Reese,
Deputy Secretary.

[FR Doc. 2022-04381 Filed 3-1-22; 8:45 am]

BILLING CODE 6717-01-P